ENVIRONMENTAL PROTECTION AGENCY

[EPA-HQ-OW-2023-0580; FRL-11359-01-OW]

Proposed Information Collection Request; Comment Request; POTW Influent PFAS Study Data Collection

AGENCY: Environmental Protection Agency (EPA).

ACTION: Notice.

SUMMARY: The U.S. Environmental Protection Agency (EPA) is planning to submit an information collection request, “U.S. Environmental Protection Agency POTW Influent PFAS Study Data Collection” (EPA ICR No. 2799.01, OMB Control No. 2040-NEW) to the Office of Management and Budget for review and approval in accordance with the Paperwork Reduction Act (PRA). Before doing so, the EPA is soliciting public comments on specific aspects of the proposed information collection as described below. This is a request for approval of a new collection. This notice allows for 60 days for public comments.

DATES: Comments must be submitted on or before May 28, 2024.

ADDRESSES: Submit your comments, referencing Docket ID No. EPA-HQ-OW-2023-0580, online using www.regulations.gov (our preferred method), by email to OW-Docket@epa.gov, or by mail to: EPA Docket Center, Environmental Protection Agency, Mail Code 28221T, 1200 Pennsylvania Ave. NW, Washington, DC 20460.

The EPA's policy is that all comments received will be included in the public docket without change including any personal information provided, unless the comment includes profanity, threats, information claimed to be Confidential Business Information (CBI), or other information whose disclosure is restricted by statute.

FOR FURTHER INFORMATION CONTACT: Sean Dempsey, Engineering and Analysis Division, Office of Science and Technology, (4303T), Environmental Protection Agency, 1200 Pennsylvania Ave. NW, Washington, DC 20460; telephone number: 202-564-5088; email address: Dempsey.Sean@epa.gov.

SUPPLEMENTARY INFORMATION: This is a request for approval of a new collection. An agency may not conduct or sponsor and a person is not required to respond to a collection of information unless it displays a currently valid OMB control number.

This notice allows 60 days for public comments. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about the EPA's public docket, visit http://www.epa.gov/dockets.

Pursuant to section 3506(c)(2)(A) of the PRA, the EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate forms of information technology. The EPA will consider the comments received and amend the ICR as appropriate. The final ICR package will then be submitted to OMB for review and approval. At that time, the EPA will issue another Federal Register notice to announce the submission of the ICR to OMB and the opportunity to submit additional comments to OMB.

Abstract: The Clean Water Act directs the United States Environmental Protection Agency to develop national regulations known as Effluent Limitations Guidelines and Standards (ELGs) to place limits on the pollutants that are discharged by categories of industry to surface waters and publicly owned treatment works (POTWs). In addition, the EPA conducts National Sewage Sludge Surveys (NSSSs) to collect national concentration data on contaminants found in sewage sludge and biosolids (sewage sludge treated to meet the requirements in 40 CFR part 503 and intended to be applied to land as a soil amendment or fertilizer), and to help inform future risk assessments and risk management options. For many decades, industrial facilities have used and discharged per- and polyfluoroalkyl substances to POTWs. PFAS are a class of synthetic chemicals of concern to the EPA because of their widespread use and potential to accumulate in the environment. Certain PFAS are known to cause adverse ecological and human health effects. Most POTWs do not operate processes and technologies that effectively reduce or eliminate PFAS in wastewater; therefore, PFAS are subsequently discharged into surface waters and/or accumulate in sewage sludge generated by the POTW which poses a potential risk for further PFAS release depending on sewage sludge management practices.

As announced in the EPA's Effluent Guidelines Program Plan 15, published in January 2023, the EPA is conducting a POTW Influent PFAS Study to collect and analyze nationwide data on industrial discharges of PFAS to POTWs as well as PFAS in POTW influent, effluent, and sewage sludge. The EPA will require, through an OMB-approved Information Collection Request, a subset of large POTWs across the United States to complete a questionnaire and collect and analyze wastewater and sewage sludge samples. The data collection activities will produce a robust data set that will enable the EPA to characterize the type and quantity of PFAS in wastewater discharges from industrial users to POTWs (including industrial categories that the EPA has determined historically or currently use PFAS but for which there is insufficient PFAS monitoring data available) as well as POTW influent, effluent, and sewage sludge. The wastewater sampling data will primarily be used to identify and prioritize industrial point source categories where additional study or regulations may be warranted to control PFAS discharges. The sewage sludge sampling will fulfill the EPA's data needs for the upcoming NSSS by establishing a current national data set of sewage sludge characteristics which the EPA will subsequently use to inform upcoming risk assessments and the need for future regulations and guidance pertaining to the management of sewage sludge.

This collection effort is necessary because there is only very limited publicly accessible data on PFAS discharges from industrial categories to POTWs; the relative PFAS contributions from residential, commercial, and industrial sources to POTWs; and the fate and transport of PFAS in POTW influent and sewage sludge. This collection effort is also consistent with the Agency's October 2021 PFAS Strategic Roadmap commitments to address PFAS through investment in scientific research to fill gaps in understanding of PFAS and to prevent PFAS from entering the environment.

As part of the POTW Influent PFAS Study, the EPA estimates that approximately 400 POTWs with the highest daily flow rates of all POTWs in the U.S. will complete a mandatory electronic questionnaire. The objectives of the questionnaire will be to gather POTW-specific information and data on industrial users discharging to the POTW, known or suspected sources of PFAS discharges to the POTW, and wastewater and sewage sludge management practices of the POTW. The EPA plans to use the information and data collected in the questionnaire to select a subset of 200 to 300 POTWs to participate in a two-phase sampling program. Phase 1 will require each selected POTW to collect and analyze one-time grab samples of industrial user effluent, domestic wastewater influent, POTW influent, and POTW effluent for forty specific PFAS and adsorbable organic fluorine (AOF). For each POTW selected, the EPA intends to specify no more than ten industrial users for which the POTW must collect and analyze effluent samples. The total number of industrial users sampled as part of the sampling program is not expected to exceed 2,000 facilities. Phase 2 will require selected POTWs to collect and analyze one-time grab samples of sewage sludge for forty specific PFAS and ancillary parameters.

Form Numbers: None.

Respondents/affected entities: 400 of the largest POTWs in the nation will receive the questionnaire (400 facilities) and a subset of 200-300 facilities will be asked to conduct specific sampling, conducted in two phases.

Respondent's obligation to respond: Mandatory (Clean Water Act Section 308) (citing authority).

Estimated number of respondents: 400 (total).

Frequency of response: One-time data collection.

Total estimated respondent burden: 25,640 hours. Burden is defined at 5 CFR 1320.03(b).

Total estimated respondent cost: $5,486,816 one-time cost.

Changes in estimates: This is a new data collection request and is a one-time temporary increase to the agency's burden.

Deborah G. Nagle,
Director, Office of Science and Technology, Office of Water.

[FR Doc. 2024-06408 Filed 3-25-24; 8:45 am]

BILLING CODE 6560-50-P